DEPARTMENT OF THE INTERIOR

Minerals Management Service

30 CFR Part 250

RIN 1010-AC99

Oil and Gas and Sulphur Operations in the Outer Continental Shelf (OCS), 30 CFR 250 Subpart A, General—Data Release and Definitions

AGENCY: Minerals Management Service (MMS), Interior.

ACTION: Final rule.

SUMMARY: This final rule will revise certain existing definitions, clarify the basis upon which the Regional Director invokes the requirement for an archaeological survey on a lease area, add notification requirements on production status of wells, and update both public information and Information Collection sections. MMS recently redesigned and renamed some of its forms to streamline data submission. MMS also discovered inconsistent practices in first production reporting, which is a prime parameter in determining inspection and testing schedules for safety system devices. This final rulemaking will update the regulations to correspond to recently revised forms, provide clarity and explanation of definitions and forms, and clarify the requirements for first production notices.

DATES: Effective Date: This rule becomes effective on May 25, 2006.

FOR FURTHER INFORMATION CONTACT: Kumkum Ray, Rules Processing Team, Regulations and Standards Branch, (703) 787-1604.

SUPPLEMENTARY INFORMATION: In this final rule MMS will revise certain existing definitions, clarify the basis upon which the Regional Director invokes the requirement for an archaeological survey on a lease area, add notification requirements on production status of wells, and update both public information and Information Collection sections, by making the following amendments:

1. Amend the definition of the term “Person” in § 250.105 to include joint ventures as an example of an association.

2. Amend the definition of the term “You” at § 250.105 to include the words “designated operator.” Under § 250.143, a designated operator is authorized to act on behalf of, and to fulfill the obligations of, a lessee under the Outer Continental Shelf Lands Act, the lease, and the regulations in 30 CFR part 250. Therefore, a designated operator is an entity that must comply with applicable requirements, and hence is a part of the regulated community covered by the word “You.”

3. Clarify in § 250.194(a) the basis upon which the Regional Director invokes the requirement for an archaeological survey on a lease area. Because it cannot be determined whether it is “likely” that an archaeological resource exists on a specific lease area until the archaeological survey has first been conducted, the wording would be changed to state, “If the Regional Director has reason to believe that an archaeological resource may exist.” The “reason to believe” is established by a technical analysis of existing archaeological, geological, and other pertinent environmental data. To more closely reflect the wording of the new 30 CFR part 250, subpart B regulations, and to clarify that the archaeological report accompanies, but is not part of, the Exploration Plan (EP), Development Operations Coordination Document (DOCD), or Development and Production Plan (DPP), MMS is modifying the second part of this sentence to state that “The Regional Director will require in writing that your EP, DOCD, or DPP be accompanied by an archaeological report.”

4. Redesignate §§ 250.195 and 250.196 as §§ 250.196 and 250.197, respectively, and add a new § 250.195 requiring the lessee or operator to notify MMS when a well has actually begun producing. When the lessee or operator files a Form MMS-125 (OMB Control Number 1010-0141), End of Operations Report (EOR) (formerly Well Summary Report), the well status is often shown as “shut in” since production facilities are not ready. Therefore, a “first production notice” often will be the only indication MMS receives that a well has actually begun producing. Such a notice is not currently required by our regulations, but has become standard practice. MMS is adding this requirement because this information has become one of the prime parameters in determining inspection and testing schedules for safety system devices.

5. Reorganize the forms data release table in the final redesignated § 250.197(a), and add entries for the new Forms MMS-123S, Supplemental Application for Permission to Drill (APD) Information Sheet; MMS-137, OCS Plan Information; MMS-133, Well Activity Report; MMS-133S, Open Hole Data Report; and MMS-140, Bottomhole Pressure Survey Report. The Office of Management and Budget (OMB) has approved the use of these new forms, all of which contain proprietary data. MMS is also deleting the entry for Form MMS-128, Semiannual Well Test Report, because no proprietary information is reported on this form. The reorganization of the table does not change the current data release timeframe for any of the other forms included in the table.

It should be noted that MMS very recently consolidated 10 forms, which were originally in 8 OMB approved information collections (ICs). These 10 forms have now been consolidated into 2 ICs. One collection now has six forms and one has four forms. We also redesigned, renumbered, and renamed some of the forms and received OMB approval for them. This is part of a separate process to provide a future option for electronic submission and streamlining of the data collected on MMS forms. In addition to any actual data element changes we made to the forms, we completely renumbered all of the data elements on most of the forms. The form and item numbers shown in the table at § 250.197(a) correspond to the revised forms. You may obtain copies of the forms listed in the table from any of the MMS regional offices or at the Web site: http://www.gomr.mms.gov/homepg/mmsforms/frmindx.html.

6. Revise § 250.197(b)(8) to clarify existing requirements by including release times for certain data and information submitted on well operations, and adding special provisions for the release of directional surveys.

7. Insert a new Form MMS-133S, Open Hole Data Report, in the table at existing § 250.199.

8. Insert a new Form MMS-144, Rig Movement Notification Report, in the table at existing § 250.199.

9. Remove the definitions of “I, me, or you” and “Person” at § 250.1402, because the definitions for these terms are found at § 250.105.

Discussion and Analysis of Comments to Proposed Rule

MMS issued a proposed rule on March 23, 2005 (70 FR 14607). MMS received only one set of comments from the oil and gas industry prepared by the American Petroleum Institute and the Offshore Operators' Committee. A discussion of the comments and our responses follows:

Section 250.105 Definitions

Comment: “It is requested that MMS include definitions for items listed in § 250.196(b) specifying what MMS considers to be geological data, geophysical data, interpreted G&G data, analyzed geological information, etc. Without any definitions it is hard to know for sure when certain data types will be released such as pressure data, velocity surveys, geochemical data, etc.”

Response: The terms referred to in the comment are at § 250.196(b)(1) and (2). The rule did not propose any changes to these paragraphs, and in order to insert new definitions, we would have to propose them first. The terms data, interpreted geological information, interpreted geophysical information, and analyzed geological information are defined in our current regulations at § 250.105.

Section 250.194 Archeological Report

Comment: “Only concern with new wording is timing of when the Regional Director (RD) will notify operators that an archeological report is required. Request that it be reworded so if a lease is added to the blocks that will require an archeological survey for, that the RD notify the existing operator when it is added, not when an EP or DOCD is submitted to the MMS. When the plan is submitted, it is too late in the process to have the survey performed. This is too late in the process when the plan is submitted to have the survey performed. The same notification would be helpful if the archeological designation is removed by the MMS from an active lease.”

Response: MMS recently began publishing an up-to-date list of leases requiring an archeological report on our Web site. Lessees are now responsible for checking the list to determine if their leases are affected. These new procedures are set forth in two recently issued NTL's; NTL No. 2005-607 and NTL No. 2005-610. Therefore, no change to the rule is necessary.

Section 250.195 Notification of Production Status of Wells

Comment: “NTL No. 2002-G10 allows 5 business days to notify the District Manager of placing a well in a production status, but this new rule says “on the date” that a well is placed in a production status. When a new well is turned on, there is a clean-up period, and actual hydrocarbon production may not commence until several days later. It may be on a weekend or during the night.”

“The Supplementary Information to this proposed change, Paragraph 4, states that the “first production notice” is being added, “because this information has become one of the prime parameters in determining inspection and testing schedules for safety systems devices.” There is also a requirement that when a new production system is started up that we notify the District Supervisor 48 hours in advance of starting up the production system. This could lead to confusion about which notice is being made since it is industry understanding that this is done to allow for inspection of the new system before start-up or shortly thereafter.”

“We request that industry be allowed the five business days as in the past for the notification after hydrocarbons are brought to the surface so that it will not be an unnecessary reporting burden.”

Response: We agree with the comment and have changed the rule language to allow 5 working days for the required notification.

Comment: “Additionally, if an End of Operations Report (EOR) is sent in with the status of shut in, waiting on production facilities, the public information copy of the EOR is without bottom hole or producing interval information. The public is therefore denied access to this information as prescribed in this rule.”

Response: Release time of the bottom-hole location and the production interval information will remain the same as before. This final rule does not change the fundamental structure of our data release policy and continues to uphold our established practices of data release to the public. MMS received OMB approval for several new or redesigned forms, in which data elements were numbered differently. This rule merely provides the new numbers for items that have always been held proprietary for certain periods of time before release to the public.

Comment: “Since the notice of first production is being formalized as a requirement, we request that it be made available to the public.”

Response: Making the notice of first production available to the public is beyond the scope of this final rule and would need to be proposed first.

Section 250.197(a) Data and Information To Be Made Available to the Public

Concerns were expressed with the addition of, or changes to, several forms as discussed below:

Comment: “Forms MMS-123S (Supplemental APD) & MMS-137(OCS Plan Information) are released when the well goes on production or according to paragraph (b) of the same section. We are concerned with the release when the well comes on production, since this is proposed information and actual data is available on the EOR, Subsequent APM (Application for Permit To Modify) and/or Final Well Activity Report (WAR). Form MMS-137 contains proposed bottom hole locations for all the wells in the plan and if only one well has been drilled and is producing, the other proposed bottom hole locations should still be confidential.”

Response: MMS will only release the bottom hole location of a well that has been drilled and is producing. Information on the other proposed wells in the plan will not be released at that time. As each well is drilled and produced only data pertaining to that well will be released.

Comment: “Form MMS-125 (End of Operations Report). Our previous understanding was that significant (geological) markers were not made available to the public. What category does the MMS classify this as in paragraph (b)?”

Response: Geological markers items 37-38 in redesignated § 250.197(a)(4) (see also the third column of table at § 250.197(b)(8)) are not available to the public when the well goes on production unless the period of time in the table in paragraph (b) has expired.

Comment: “Form MMS-127 (Sensitive Reservoir Information Report (SRI)). Release of fluid analysis data and volumetric data after two years makes proprietary data such as reserve estimates, recovery efficiencies, and recovery estimates public information. We would desire to keep this proprietary data non-releasable during production as we consider it to be competitive in nature.”

“Since the log data is available to the public two years after the submittal date, we feel this is sufficient data for the public if they want to look at the data and make their own estimates of reserves/recoveries without being privy to an operator's proprietary interpretations.”

Response: Information on forms frequently does not fit into a clear category of either analyzed or interpreted. In deciding when information should be released, MMS has attempted to balance the protection of the lessee's commercial rights associated with the information and the public's right to access data and information concerning public lands. The Volumetric Data and the Fluid Analysis Data information on the Sensitive Reservoir Information Report (Form MMS-127) has been available to the public 2 years after its effective date for over 30 years. Releasing such information, which includes reserve estimates, recovery efficiencies, and recovery estimates, two years after submittal date provides a balance between commercial interests of the lessees to protect data and information from premature disclosure after the well is drilled, and the interests of industry and the public to have timely access to information concerning public lands. It is important that the same data and information appearing on different forms be made available simultaneously.

Comment: “Form MMS-133 WAR. It is our understanding that this form is used by the MMS to follow an operator's progress on a job for inspections and to ensure compliance with approved permits. We feel this detailed information of our day-to-day operations is proprietary data and to release it to the public gives others an unfair competitive advantage. Combined with the entire APD & Form MMS-123S another operator can piece together our entire drilling plan. We feel enough data is available to the public on the EOR, Subsequent APM and/or final WAR. We would not have an issue with releasing the Special Well Events that are described in the WAR as they relate to possible safety issues.”

Response: We will protect information from respondents considered proprietary under the Freedom of Information Act (5 U.S.C. 552) and its implementing regulations (43 CFR part 2) and under regulations at 30 CFR 250.196, “Data and information to be made available to the public,” and 30 CFR part 252, “OCS Oil and Gas Information Program.” This final rule does not change the fundamental structure of our data release policy and continues to uphold our established practices of data release to the public. MMS received OMB approval for several new or redesigned forms, in which data elements were numbered differently. This final rule merely provides the new numbers for items that have always been held proprietary for certain periods of time before release to the public. Sharing information in a responsible manner enables all concerned to benefit equally without jeopardizing individual rights. MMS data release times will remain unchanged in this final rule.

Section 250.197(b) Data and Information To Be Made Available to the Public

Comment: “We would appreciate definitions of what is meant by “downhole locations,” “operations,” and “equipment” in the “MMS will release” column.”

Response: In order to insert new definitions, we would have to propose them first. We do not believe this is necessary since these are commonly used non-controversial terms and we decided to provide them to you in the preamble. The terms have the following meanings:

Downhole locations: Observed, estimated, or derived well locations below the mudline including directional and inclination surveys, measured depths, true vertical and subsea depths, horizontal departures, and latitude and longitude locations thereof;

Downhole operations: Planned or completed well operations below the mudline including drilling, completion, recompletion, workover, wireline, coiled tubing operations, and stimulation treatment; and

Downhole equipment: Materials used for downhole well operations including drill pipe, drilling assemblies, casing, packers, and tools.

Section 250.199(e) Paperwork Reduction Act Statements—Information Collection

Comment: “The listed form names such as Sundry Notices, Maximum Efficiency Rate (MER), and Well Summary Report are being replaced by those in § 250.197(a).”

Response: We appreciate this comment and have corrected our oversight by changing the form names in the table at § 250.199(e).

Procedural Matters

Regulatory Planning and Review (Executive Order (E.O.) 12866)

This document is not a significant rule and is not subject to review by the Office of Management and Budget (OMB) under E.O. 12866. This final rule:

1. Does not have an annual economic effect of $100 million or more on the economy. It does not adversely affect in a material way the economy, productivity, competition, jobs, the environment, public health or safety, or State, local, or tribal governments or communities. A cost-benefit and economic analysis is not required because:

a. The changes to the definitions and data release tables have no financial impact on the oil and gas industry.

b. The requirements minimally increase the paperwork burden for submitting first production notices under newly final § 250.195. At an average cost of $50 per hour, the increase of approximately 250 hours each year would result in an hour burden impact of $12,500. Refer to the Paperwork Reduction Act section later in the preamble.

2. Does not create a serious inconsistency or otherwise interfere with an action taken or planned by another agency. It would not affect how lessees or operators interact with other agencies.

3. Does not alter the budgetary effects or entitlements, grants, user fees, or loan programs or the rights or obligations of their recipients. It has no effect on the rights of the recipients of entitlements, grants, user fees, or loan programs.

4. Does not raise novel legal or policy issues.

Regulatory Flexibility Act (RFA)

The Department of the Interior certifies that this final rule does not have a significant economic effect on a substantial number of small entities under the RFA (5 U.S.C. 601 et seq.). It applies to all OCS lessees and operators operating on the OCS. Small lessees fall under the Small Business Administration's (SBA) North American Industry Classification System Codes 211111, which includes companies that extract crude petroleum and natural gas. Under this code, a small company is one with fewer than 500 employees. Based on these criteria, MMS estimates that about 70 percent of these companies are considered small. The requirements minimally increase the paperwork burden for submitting first production notices under newly final § 250.195. At an average cost of $50 per hour, the increase of approximately 250 man-hours each year results in an hour burden impact of $12,500. Refer to the Paperwork Reduction Act section later in the preamble. Thus, based on 130 lessees/operators, the average increase is $100, for both large and small entities. Since 70 percent of the companies are small businesses, the total paperwork burden increase for small companies is approximately 175 man-hours, representing an annual hour cost burden of $8,750.

Small Business Regulatory Enforcement Fairness Act (SBREFA)

This final rule is not a major rule under the SBREFA (5 U.S.C. 804(2)). The final rule:

a. Does not have an annual effect on the economy of $100 million or more. As described above, we estimate an annual paperwork burden increase of $100 per respondent. These costs will not cause an annual effect on the economy of $100 million or more.

b. Does not cause a major increase in costs or prices for consumers, individual industries, Federal, State, or local government agencies; or geographic regions. The minor increase in cost does not change the way the oil and gas industry conducts business, nor would it affect regional oil and gas prices. Therefore, it does not cause major cost increases for consumers, the oil and gas industry, or any government agencies.

c. Does not have significant adverse effects on competition, employment, investment, productivity, innovation, or ability of United States (U.S.)-based enterprises to compete with foreign-based enterprises. All lessees and drilling contractors, regardless of nationality, must comply with the requirements of this rule, so it does not affect competition, employment, investment, productivity, innovation, or the ability of U.S.-based enterprises to compete with foreign-based enterprises.

Unfunded Mandates Reform Act (UMRA) of 1995

This final rule will not impose an unfunded mandate on State, local, or tribal governments or the private sector of more than $100 million per year. It does not have any Federal mandates, nor a significant or unique effect on State, local, or tribal governments or the private sector. A statement containing the information required by the UMRA (2 U.S.C. 1531 et seq.) is not required.

Takings Implication Assessment (Executive Order 12630)

Pursuant to E.O. 12630, the final rule does not have significant Takings Implications. A Takings Implication Assessment is not required. The rulemaking is not a governmental action capable of interfering with constitutionally protected property rights.

Federalism (Executive Order 13132)

Pursuant to E.O. 13132, this final rule does not have Federalism implications. This final rule would not substantially and directly affect the relationship between Federal and State governments. This final rule clarifies and requires information from lessees/operators on the OCS, which is outside State jurisdiction. States have no role in this activity with or without this rule, and this rule does not impose costs on States or localities.

Civil Justice Reform (Executive Order 12988)

Pursuant to E.O. 12988, the Office of the Solicitor has determined that this final rule would not unduly burden the judicial system and does meet the requirements of sections 3(a) and 3(b)(2) of the Order.

Paperwork Reduction Act (PRA)

The rulemaking added a requirement and an information collection package was submitted to OMB for review and approval under section 3507(d) of the PRA. The title of the collection of information is “30 CFR 250, Subpart A, General, Data Release and Definitions.”

Respondents include approximately 130 Federal OCS oil and gas lessees and operators. The frequency of reporting and recordkeeping is generally on occasion. Responses are mandatory. The IC does not include questions of a sensitive nature. MMS will protect information considered proprietary according to 30 CFR 250.196, “Data and information to be made available to the public,” 30 CFR part 252, “OCS Oil and Gas Information Program,” and the Freedom of Information Act (5 U.S.C. 552) and its implementing regulations (43 CFR part 2).

The final rule addresses several reports and forms required by current regulations. All the burdens for the individual reports and forms have been approved by OMB and assigned OMB control numbers according to their associated subparts.

Section 250.195 will require the lessee or operator to notify MMS when a well has actually begun producing. When the lessee or operator files a Form MMS-125, End of Operations Report (formerly the Well Summary Report), the well status is often shown as “shut in” since production facilities are not ready. Currently there is no regulatory requirement for lessees or operators to formally notify MMS of “first production,” although most companies already notify MMS when a well begins to produce. This practice will serve to alert both MMS and the operator of the requirements pertaining to the inspection, installation, and maintenance of safety systems. We estimate 250 annual notifications would be submitted, requiring about 1 hour each to prepare and submit.

OMB approved the 250 burden hours for this rulemaking and assigned OMB Control Number 1010-0161 (exp. 4/30/2008). There were no changes in the information collection requirements from the proposed rule to the final rule. When the rule becomes effective, MMS will merge these hours into the primary collection for 30 CFR part 250 subpart A (1010-0114, expiration 10/31/2007).

A Federal agency may not conduct or sponsor, and a person is not required to respond to, a collection of information unless it displays a currently valid OMB control number. The public may comment, at any time, on the accuracy of the information collection burden in this rule and may submit any comments to the Department of the Interior; Minerals Management Service; Attention: Rules Processing Team; Mail Stop 4024; 381 Elden Street; Herndon, Virginia 20170-4817. If you wish to e-mail your comments to MMS, the address is: rules.comment@mms.gov. You may also submit comments on the burdens through https://ocsconnect.mms.gov. Please reference “Oil and Gas and Sulphur Operations in the Outer Continental Shelf (OCS), 30 CFR Part 250 Subpart A, General—Data Release and Definitions,” in your comments.

National Environmental Policy Act (NEPA) of 1969

The MMS has determined that this final rule is strictly administrative in nature. This qualified for a categorical exclusion under 516 Departmental Manual (DM) Chapter 2, Appendix 1.10. Therefore, it is categorically excluded from environmental review under section 102(2)(C) of the National Environmental Policy Act (NEPA), pursuant to 516 DM, Chapter 2, Appendix 1. In addition, the final rule does not involve any of the 10 extraordinary circumstances listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Energy, Supply, Distribution, or Use (Executive Order 13211)

This is not a significant rule and is not subject to review by OMB under E. O. 13211. Thus, a Statement of Energy Effects is not required.

Consultation and Coordination With Indian Tribal Governments (Executive Order 13175)

In accordance with E.O. 13175, this final rule would not have tribal implications that impose substantial direct compliance costs on Indian tribal governments.

List of Subjects in 30 CFR Part 250

Administrative practice and procedure, Continental shelf, Environmental protection, Oil and gas exploration, Public lands—mineral resources, Public lands—rights-of-way, Reporting and recordkeeping requirements.

Dated: April 6, 2006.
Chad Calvert,
Acting Assistant Secretary—Land and Minerals Management.

For the reasons stated in the preamble, the Minerals Management Service amends 30 CFR part 250 as follows:

PART 250—OIL AND GAS AND SULPHUR OPERATIONS IN THE OUTER CONTINENTAL SHELF

1. The authority citation for part 250 continues to read as follows:

Authority: 43 U.S.C. 1331 et seq.; 31 U.S.C. 9701.

2. In § 250.105, revise the definitions of the term, “Person” and “You,” to read as follows:

§ 250.105 Definitions.

* * * * *

Person includes a natural person, an association (including partnerships, joint ventures, and trusts), a State, a political subdivision of a State, or a private, public, or municipal corporation.

* * * * *

You means a lessee, the owner or holder of operating rights, a designated operator or agent of the lessee(s), a pipeline right-of-way holder, or a State lessee granted a right-of-use and easement.

* * * * *

3. The heading of § 250.194 and the introductory text of paragraph (a) are revised to read as follows:

§ 250.194 How must I protect archaeological resources?

(a) If the Regional Director has reason to believe that an archaeological resource may exist in the lease area, the Regional Director will require in writing that your EP, DOCD, or DPP be accompanied by an archaeological report. If the archaeological report suggests that an archaeological resource may be present, you must either:

* * * * *

§§ 250.195 and 250.196 [Redesignated]

4. Sections 250.195 and 250.196 are redesignated §§ 250.196 and 250.197, respectively.

5. Add new § 250.195 to read as follows:

§ 250.195 What notification does MMS require on the production status of wells?

You must notify the appropriate MMS District Manager when you successfully complete or recomplete a well for production. You must:

(a) Notify the District Manager within 5 working days of placing the well in a production status. You must confirm oral notification by telefax or e-mail within those 5 working days.

(b) Provide the following information in your notification:

(1) Lessee or operator name;

(2) Well number, lease number, and OCS area and block designations;

(3) Date you placed the well on production (indicate whether or not this is first production on the lease);

(4) Type of production; and

(5) Measured depth of the production interval.

§ 250.197 [Amended]

6. In newly redesignated § 250.197, the following revisions are made:

A. Revise paragraph (a) to read as set forth below.

B. Revise paragraph (7) in the table in paragraph (b) to read as set forth below.

§ 250.197 Data and information to be made available to the public or for limited inspection.

* * * * *

(a) All data and information you submit on MMS forms will be made available to the public upon submission, except as specified in the following table:

On form . . . | Data and information not immediately available are . . . | Excepted data will be made available . . .
(1) MMS-123, Application for Permit to Drill | Items 15, 16, 22 through 25 | When the well goes on production or according to the table in paragraph (b) of this section, whichever is earlier.
(2) MMS-123S, Supplemental APD Information Sheet | Items 3, 7, 8, 15 and 17 | When the well goes on production or according to the table in paragraph (b) of this section, whichever is earlier.
(3) MMS-124, Application for Permit to Modify | Item 17 | When the well goes on production or according to the table in paragraph (b) of this section, whichever is earlier.
(4) MMS-125, End of Operations Report | Items 12, 13, 17, 21, 22, 26 through 38 | When the well goes on production or according to the table in paragraph (b) of this section, whichever is earlier. However, items 33 through 38 will not be released when the well goes on production unless the period of time in the table in paragraph (b) has expired.
(5) MMS-126, Well Potential Test Report | Item 101 | 2 years after you submit it.
(6) MMS-127, Sensitive Reservoir Information Report | Items 124 through 168 | 2 years after the effective date of the Sensitive Reservoir Information Report.
(7) MMS-133 Well Activity Report | Item 10 Fields [WELLBORE START DATE, TD DATE, OP STATUS, END DATE, MD, TVD, AND MW PPG]. Item 11 Fields [WELLBORE START DATE, TD DATE, PLUGBACK DATE, FINAL MD, AND FINAL TVD] and Items 12 through 15 | When the well goes on production or according to the table in paragraph (b) of this section, whichever is earlier.
(8) MMS-133S Open Hole Data Report | Boxes 7 and 8 | When the well goes on production or according to the table in paragraph (b) of this seciton, whichever is earlier.
(9) MMS-137 OCS Plan Information | Items providing the bottomhole location, true vertical depth, and measured depth of wells | When the well goes on production or according to the table in paragraph (b) of this section, whichever is earlier.
(10) MMS-140, Bottomhole Pressure Survey Report | All items | 2 years after the date of the survey.

(b) * * *

If . . . | MMS will release . . . | At this time . . . | Special provisions
* * * * * * *
(7) Data or information is submitted on well operations | Descriptions of downhole locations, operations, and equipment | When the well goes on production or when geological data is released according to §§ 250.197(b)(6) and (b)(7), whichever occurs earlier | Directional survey data may be released earlier to the owner of an adjacent lease according to Subpart D of this part.
* * * * * * *

* * * * *

7. Revise § 250.199 (e), to read as follows:

§ 250.199 Paperwork Reduction Act statements—information collection.

(e) MMS is collecting this information for the reasons given in the following table:

30 CFR 250 Subpart/title (OMB control number) | Reasons for collecting information and how used
(1) Subpart A, General (1010-0114), including Forms MMS-132, Evacuation Statistics; MMS-1123, Designation of Operator; MMS-1882, Notification of Incidents of Noncompliance | To inform MMS of actions taken to comply with general operational requirements on the OCS. To ensure that operations on the OCS meet statutory and regulatory requirements, are safe and protect the environment, and result in diligent exploration, development, and production on OCS leases. To support the unproved and proved reserve estimation, resource assessment, and fair market value determinations.
(2) Subpart B, Exploration and Development and Production Plans (1010-0151), including Forms MMS-137, OCS Plan Information Form; MMS-139, EP Air Quality Screening Checklist; MMS-138, DOCD Air Quality Screening Checklist, MMS-141, ROV Survey Report Form; MMS-142, Environmental Impact Analysis Worksheet | To inform MMS, States, and the public of planned exploration, development, and production operations on the OCS. To ensure that operations on the OCS are planned to comply with statutory and regulatory requirements, will be safe and protect the human, marine, and coastal environment, and will result in diligent exploration, development, and production of leases.
(3) Subpart C, Pollution Prevention and Control (1010-0057) | To inform MMS of measures to be taken to prevent water and air pollution. To ensure that appropriate measures are taken to prevent water and air pollution.
(4) Subpart D, Oil and Gas and Drilling Operations (1010-0141), including Forms MMS-123, Application for Permit to Drill; MMS-123S, Supplemental APD Information Sheet; MMS-124, Application for Permit to Modify; MMS-125, End of Operations Report; MMS-133, Well Activity Report; MMS-133S, Open Hole Data Report | To inform MMS of the equipment and procedures to be used in drilling operations on the OCS. To ensure that drilling operations are safe and protect the human, marine, and coastal environment.
(5) Subpart E, Oil and Gas Well-Completion Operations (1010-0067) | To inform MMS of the equipment and procedures to be used in well-completion operations on the OCS. To ensure that well-completion operations are safe and protect the human, marine, and coastal environment.
(6) Subpart F, Oil and Gas Well Workover Operations (1010-0043) | To inform MMS of the equipment and procedures to be used during well-workover operations on the OCS. To ensure that well-workover operations are safe and protect the human, marine, and coastal environment.
(7) Subpart H, Oil and Gas Production Safety Systems (1010-0059) | To inform MMS of the equipment and procedures to be used during production operations on the OCS. To ensure that production operations are safe and protect the human, marine, and coastal environment.
(8) Subpart I, Platforms and Structures (1010-0149) | To provide MMS with information regarding the design, fabrication, and installation of platforms on the OCS. To ensure the structural integrity of platforms installed on the OCS.
(9) Subpart J, Pipelines and Pipeline Rights-of-Way (1010-0050) | To provide MMS with information regarding the design, installation, and operation of pipelines on the OCS. To ensure that pipeline operations are safe and protect the human, marine, and coastal environment.
(10) Subpart K, Oil and Gas Production Rates (1010-0041), including Forms MMS-126, Well Potential Test Report; MMS-127, Sensitive Reservoir Information Report; MMS-128, Semiannual Well Test Report; MMS-140 Bottomhole Pressure Survey Report | To inform MMS of production rates for hydrocarbons produced on the OCS. To ensure economic maximization of ultimate hydrocarbon recovery.
(11) Subpart L, Oil and Gas Production Measurement, Surface Commingling, and Security (1010-0051) | To inform MMS of the measurement of production, commingling of hydrocarbons, and site security plans. To ensure that produced hydrocarbons are measured and commingled to provide for accurate royalty payments and security is maintained.
(12) Subpart M, Unitization (1010-0068) | To inform MMS of the unitization of leases. To ensure that unitization prevents waste, conserves natural resources, and protects correlative rights.
(13) Subpart N, Remedies and Penalties | The requirements in subpart N are exempt from the Paperwork Reduction Act of 1995 according to 5 CFR 1320.4.
(14) Subpart O, Well Control and Production Safety Training (1010-0128) | To inform MMS of training program curricula, course schedules, and attendance. To ensure that training programs are technically accurate and sufficient to meet safety and environmental requirements, and that workers are properly trained to operate on the OCS.
(15) Subpart P, Sulphur Operations (1010-0086) | To inform MMS of sulphur exploration and development operations on the OCS. To ensure that OCS sulphur operations are safe; protect the human, marine, and coastal environment; and will result in diligent exploration, development, and production of sulphur leases.
(16) Subpart Q, Decommissioning Activities (1010-0142) | To determine that decommissioning activities comply with regulatory requirements and approvals. To ensure that site clearance and platform or pipeline removal are properly performed to protect marine life and the environment and do not conflict with other users of the OCS.
(17) Form MMS-131, Performance Measures (1010-0112) | Voluntary. We use the information obtained from this form to develop an industry average that helps to describe how well the offshore oil and gas industry is performing.
(18) Form MMS-144, Rig Movement Notification Report (form used in the GOM OCS Region), Subparts D, E, F, (1010-0150) | The rig notification requirement is essential for MMS inspection scheduling and to verify that the equipment being used complies with approved permits.

§ 250.1402 [Amended]

8. In § 250.1402, remove the definitions of “I, me, or you” and “Person.”

[FR Doc. 06-3898 Filed 4-24-06; 8:45 am]

BILLING CODE 4310-MR-P